DEPARTMENT OF DEFENSE

Office of the Secretary

Renewal of Department of Defense Federal Advisory Committees—Army Education Advisory Committee

AGENCY: Department of Defense (DoD).

ACTION: Renewal of a Federal Advisory Committee.

SUMMARY: The DoD is publishing this notice to announce that it is renewing the Army Education Advisory Committee (AEAC).

FOR FURTHER INFORMATION CONTACT: Jim Freeman, Advisory Committee Management Officer for the Department of Defense, 703-692-5952.

SUPPLEMENTARY INFORMATION: The AEAC is being renewed in accordance with the Federal Advisory Committee Act (FACA) (5 U.S.C., Appendix) and 41 CFR 102-3.50(d). The charter and contact information for the Committee's Designated Federal Officer (DFO) are found at https://www.facadatabase.gov/FACA/apex/FACAPublicAgencyNavigation.

The AEAC provides the Secretary of Defense, Deputy Secretary of Defense (“the DoD Appointing Authority”), and the Secretary of the Army independent advice and recommendations on U.S. Army educational matters. The AEAC will focus on matters pertaining to the educational doctrinal, and research policies and activities of the U.S. Army's educational programs, to include the U.S. Army's joint professional military education programs. The AEAC will assess and provide independent advice and recommendations across the spectrum of educational policies, school curricula, educational philosophy and objectives, program effectiveness, facilities, staff and faculty, instructional methods, and other aspects of the organization and management of these programs. The AEAC will also provide independent advice and recommendations on matters pertaining to the Army Historical Program and the role and mission of the U.S. Army Center of Military History, particularly as they pertain to the study and use of military history in Army schools. The AEAC shall be composed of no more than 15 members. The membership will include: (a) no more than 11 individuals who are eminent authorities in the fields of defense, management, leadership, and academia, including those who are deemed to be historical scholars; (b) the Chief Historian of the Army, U.S. Army, Center of Military History; and (c) the Chairs of the United States Army War College Board of Visitors Subcommittee, Command and General Staff College Board of Visitors Subcommittee, and Defense Language Institute Foreign Language Board of Visitors Subcommittee, who are eminent authorities in the fields of defense, management, leadership, and academia.

Individual AEAC members are appointed according to DoD policy and procedures, and serve a term of service of one-to-four years with annual renewals. One member will be appointed as Chair of the AEAC. No member, unless approved according to DoD policy and procedures, may serve more than two consecutive terms of service on the AEAC, or serve on more than two DoD Federal advisory committees at one time.

AEAC members who are not full-time or permanent part-time Federal civilian officers, employees, or active duty members of the Uniformed Services will be appointed as experts or consultants, pursuant to 5 U.S.C. 3109, to serve as special government employee members. AEAC members who are full-time or permanent part-time Federal civilian officers or employees, or active duty members of the Uniformed Services, will be appointed pursuant to 41 CFR 102-3.130(a), to serve as regular government employee members.

All members of the AEAC are appointed to provide advice on the basis of their best judgment without representing any particular point of view and in a manner that is free from conflict of interest. Except for reimbursement of official AEAC-related travel and per diem, members serve without compensation.

The public or interested organizations may submit written statements to the AEAC membership about the AEAC's mission and functions. Written statements may be submitted at any time or in response to the stated agenda of planned meeting of the AEAC. All written statements shall be submitted to the DFO for the AEAC, and this individual will ensure that the written statements are provided to the membership for their consideration.

Dated: June 21, 2022.
Aaron T. Siegel,
Alternate OSD Federal Register Liaison Officer, Department of Defense.

[FR Doc. 2022-13547 Filed 6-23-22; 8:45 am]

BILLING CODE 5001-06-P